ENVIRONMENTAL PROTECTION AGENCY

40 CFR Part 52

[EPA-R08-OAR-2019-0081; FRL-9995-37-Region 8]

Clean Data Determination; Salt Lake City, Utah 2006 Fine Particulate Matter Standards Nonattainment Area

AGENCY: Environmental Protection Agency (EPA).

ACTION: Proposed rule; extension of comment period.

SUMMARY: On June 5, 2019, the Environmental Protection Agency (EPA) published in the Federal Register a proposed rule pertaining to the proposed approval of a clean data determination (CDD) for the 2006 24-hour fine particulate matter (PM2.5) Salt Lake City, Utah, (UT) nonattainment area (NAA) and requested comments by July 5, 2019. The EPA is extending the comment period for the proposed rule until July 22, 2019.

DATES: Written comments must be received on or before July 22, 2019.

ADDRESSES: Submit your comments, identified by Docket ID No. EPA-R08-OAR-2019-0081, to the Federal Rulemaking Portal: https://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, cloud, or other file sharing system). For additional submission methods, the full EPA public comment policy, information about CBI or multimedia submissions, and general guidance on making effective comments, please visit http://www2.epa.gov/dockets/commenting-epa-dockets.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air and Radiation Division, Environmental Protection Agency (EPA), Region 8, 1595 Wynkoop Street, Denver, Colorado 80202-1129. The EPA requests that if at all possible, you contact the individual listed in the FOR FURTHER INFORMATION CONTACT section to view the hard copy of the docket. You may view the hard copy of the docket Monday through Friday, 8:00 a.m. to 4:00 p.m., excluding federal holidays.

FOR FURTHER INFORMATION CONTACT: Crystal Ostigaard, Air and Radiation Division, EPA, Region 8, Mailcode 8ARD-AP, 1595 Wynkoop Street, Denver, Colorado 80202-1129, (303) 312-6602, ostigaard.crystal@epa.gov.

SUPPLEMENTARY INFORMATION: Throughout this document wherever “we,” “us,” or “our” is used, we mean the EPA.

On June 5, 2019 (84 FR 26053), we published in the Federal Register a proposed rule pertaining to proposed approval of a CDD for the 2006 24-hour PM2.5 Salt Lake City, UT NAA and requested comments by July 5, 2019. Specifically, the proposed determination is based upon quality-assured, quality-controlled, and certified ambient air monitoring data for the period 2016-2018, available in the EPA's Air Quality System (AQS) database, showing the area has monitored attainment of the 2006 24-hour PM2.5 National Ambient Air Quality Standards (NAAQS). Based on our proposed determination that the Salt Lake City, UT NAA is currently attaining the 24-hour PM2.5 NAAQS, the EPA also proposed to determine that the obligation for Utah to make submissions to meet certain Clean Air Act (CAA or the Act) requirements related to attainment of the NAAQS for this area is not applicable for as long as the area continues to attain the NAAQS.

We received a request from the Center for Biological Diversity to extend the comment period and, in response, we are extending the comment period to July 22, 2019.¹

¹ A copy of the email requesting the extension, and our initial email response, appears in the docket for this action.

List of Subjects in 40 CFR Part 52

Environmental protection, Air pollution control, Incorporation by reference, Intergovernmental relations, Nitrogen dioxide, Particulate matter, Reporting and recordkeeping requirements, Sulfur oxides, Volatile organic compounds.

Authority: 42 U.S.C. 7401 et seq.

Dated: June 17, 2019.
Debra Thomas,
Deputy Regional Administrator, EPA Region 8.

[FR Doc. 2019-13301 Filed 6-21-19; 8:45 am]

BILLING CODE 6560-50-P